DEPARTMENT OF TRANSPORTATION

Federal Aviation Administration

14 CFR Part 39

[Docket No. FAA-2009-0214; Directorate Identifier 2007-NM-343-AD; Amendment 39-15851; AD 2009-06-14]

RIN 2120-AA64

Airworthiness Directives; Fokker Model F.27 Mark 050 Airplanes

AGENCY: Federal Aviation Administration (FAA), Department of Transportation (DOT).

ACTION: Final rule; request for comments.

SUMMARY: The FAA is adopting a new airworthiness directive (AD) for certain Fokker Model F.27 Mark 050 airplanes. This AD requires measuring the length of the extended portion of the sliding member of the main landing gear, performing an inspection for the presence of lockwiring, and doing corrective actions if necessary. This AD results from a report that the sliding member of the main landing gear has been overextended after landing. We are issuing this AD to detect and correct improper installation of the lockwire on the two lockbolts that hold the sliding member end stop, which could result in structural damage of the main gear and loss of control of the airplane during the landing roll, due to main landing gear overextension.

DATES: This AD becomes effective March 31, 2009.

The Director of the Federal Register approved the incorporation by reference of certain publications listed in the AD as of March 31, 2009.

We must receive comments on this AD by April 15, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Fokker Services B.V., Technical Services Dept., P.O. Box 231, 2150 AE Nieuw-Vennep, the Netherlands; Telephone +31 (0)252-627-350; fax +31 (0)252-627-211; e-mail technicalservices.fokkerservices@stork.com; Internet http://www.myfokkerfleet.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

The Civil Aviation Authority—The Netherlands (CAA-NL), which is the airworthiness authority for the Netherlands, notified us that an unsafe condition might exist on certain Fokker Model F.27 Mark 050 airplanes. The CAA-NL advises that there has been a report that the sliding member of the main landing gear has been overextended after landing. During subsequent investigation, it was found that an end stop had unscrewed itself to a certain extent, and that there was no lockwiring present on the two lockbolts that hold the end stop. The unscrewed end stop caused the gear torque links of the main landing gear to come into an overextended position against the sliding member. This condition, if not corrected, could result in structural damage of the main gear and loss of control of the airplane during the landing roll, due to main landing gear overextension.

Relevant Service Information

Fokker has issued Service Bulletin SBF50-32-039, dated July 2, 2007, which describes procedures for measuring the length of the extended portion of the sliding member of the main landing gear, and performing an inspection for the presence of lockwiring on the lock bolts of the two end stops, and doing corrective actions if necessary. Corrective actions include applying lockwiring if not installed or installed incorrectly.

Accomplishing the actions specified in the service information is intended to adequately address the unsafe condition. The CAA-NL mandated the service information and issued Dutch airworthiness directive NL-2007-002, dated October 31, 2007 (referred to after this as “the MCAI”), to ensure the continued airworthiness of these airplanes in the Netherlands.

Fokker Service Bulletin SBF50-32-039, dated July 2, 2007, refers to Messier-Dowty Service Bulletin F50-32-62, dated January 17, 2007, as an additional source of service information for measuring the length of the extended portion of the sliding member of the main landing gear, performing an inspection for the presence of lockwiring on the lock bolts of the two end stops, and installing new lockwiring when lockwiring is missing or installed incorrectly.

FAA's Determination and Requirements of This AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Therefore, we are issuing this AD to detect and correct improper installation of the lockwire on the two lockbolts that hold the sliding member end stop, which could result in structural damage of the main gear and loss of control of the airplane during the landing roll, due to main landing gear overextension. This AD requires accomplishing the actions specified in the service information described previously, except as discussed under “Differences Between the AD and the MCAI.”

Differences Between the AD and the MCAI

The MCAI specifies only to inspect for the presence of lockwiring if overextension is found. However, Messier-Dowty Service Bulletin F50-32-62, dated January 17, 2007, also specifies to inspect if the measurement has increased between inspections. This AD requires inspection for the presence of lockwiring if overextension is found or the measurement of the repeat inspection has increased by 1.0 mm compared to a previous inspection. We have coordinated this difference with CAA-NL.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required actions would take about 8 work hours per airplane, at an average labor rate of $80 per work hour. Required parts would cost about $1,082 per airplane. Based on these figures, the estimated cost of the AD would be $1,722 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0214; Directorate Identifier 2007-NM-343-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2009-06-14 Fokker Services B.V.: Amendment 39-15851. Docket No. FAA-2009-0214; Directorate Identifier 2007-NM-343-AD.

Effective Date

(a) This AD becomes effective March 31, 2009.

Affected ADs

(b) None.

Applicability

(c) This AD applies to all Fokker Model F.27 Mark 050 airplanes, certificated in any category.

Subject

(d) Air Transport Association (ATA) of America Code 32: Landing Gear.

Unsafe Condition

(e) This AD results from a report that the sliding member of the main landing gear has been overextended after landing. We are issuing this AD to detect and correct improper installation of the lockwire on the two lockbolts that hold the sliding member end stop, which could result in structural damage of the main gear and loss of control of the airplane during the landing roll, due to main landing gear overextension.

Compliance

(f) You are responsible for having the actions required by this AD performed within the compliance times specified, unless the actions have already been done.

Measurement, Inspection, and Corrective Actions

(g) Within 500 flight cycles after the effective date of this AD, measure the length of the extended portion of the sliding member of the main landing gear in accordance with the Accomplishment Instructions of Fokker Service Bulletin SBF50-32-039, dated July 2, 2007. Repeat the measurement at intervals not to exceed 500 flight cycles until the requirements of paragraph (g) have been completed.

(h) At the applicable time in paragraph (h)(1) or (h)(2) of this AD, perform an inspection for the presence and correct installation of lockwiring on the two end stop lock bolts of the main landing gear, in accordance with the Accomplishment Instructions of Fokker Service Bulletin SBF50-32-039, dated July 2, 2007. If lockwiring is not present or is not installed correctly, install lockwiring before further flight in accordance with Fokker Service Bulletin SBF50-32-039, dated July 2, 2007.

(1) During any measurement required by paragraph (g) of this AD, if overextension is found, or the measurement has increased by 1.0 millimeter (mm) or more compared to the previous measurement, inspect before further flight.

(2) If no overextension is found and the measurement has not increased by 1.0 mm or more between measurements during the measurements required by paragraph (g) of this AD, inspect within 4,000 flight hours after the effective date of this AD.

Note 1: Fokker Service Bulletin SBF50-32-039, dated July 2, 2007, refers to Messier-Dowty Service Bulletin F50-32-62, dated January 17, 2007, as an additional source of service information for measuring the length of the extended portion of the sliding member of the main landing gear, performing an inspection for the presence of lockwiring on the lock bolts of the two end stops, and installing new lockwiring.

(i) If, during any measurement required by paragraph (g) of this AD, overextension is found or the measurement has increased by 1.0 mm or more compared to the previous measurement; or if, during any inspection required by paragraph (h) of the AD, lockwiring is not present or is not installed correctly; submit a report to Fokker Services B.V., Technical Services Dept., P.O. Box 231, 2150 AE Nieuw-Vennep, the Netherlands; facsimile (31) 252-627-211; e-mail technicalservices.fokkerservices@stork.com, at the applicable time specified in paragraph (i)(1) or (i)(2) of this AD. The report must include any finding of overextension or incorrect lockwiring to Fokker Services B.V., Technical Services Dept., P.O. Box 231, 2150 AE Nieuw-Vennep, the Netherlands; facsimile (31) 252-627-211. Under the provisions of the Paperwork Reduction Act (44 U.S.C. 3501 et seq.), the Office of Management and Budget (OMB) has approved the information collection requirements contained in this AD and has assigned OMB Control Number 2120-0056.

(1) If the inspection or measurement was done on or after the effective date of this AD: Submit the report within 30 days after the inspection or measurement, as applicable.

(2) If the inspection or measurement was accomplished prior to the effective date of this AD: Submit the report within 30 days after the effective date of this AD.

(j) As of 5 months after the effective date of this AD: No person may install a main landing gear on any airplane unless Part B of Messier-Dowty Service Bulletin F50-32-62, dated January 17, 2007, has been accomplished for that part.

Alternative Methods of Compliance (AMOCs)

(k) The Manager, International Branch, ANM-116, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office.

Related Information

(l) Civil Aviation Authority—The Netherlands (CAA-NL) Airworthiness Directive NL-2007-002, dated October 31, 2007, also addresses the subject of this AD.

Material Incorporated by Reference

(m) You must use Fokker Service Bulletin SBF50-32-039, dated July 2, 2007; and Messier-Dowty Service Bulletin F50-32-62, dated January 17, 2007; as applicable; to perform the actions that are required by this AD, unless the AD specifies otherwise.

(1) The Director of the Federal Register approved the incorporation by reference of these documents in accordance with 5 U.S.C. 552(a) and 1 CFR part 51.

(2) For Fokker service information identified in this AD, contact Fokker Services B.V., Technical Services Dept., P.O. Box 231, 2150 AE Nieuw-Vennep, the Netherlands; Telephone +31 (0)252-627-350; fax +31 (0)252-627-211; e-mail technicalservices.fokkerservices@stork.com; Internet http://www.myfokkerfleet.com.

(3) For Messier-Dowty service information identified in this AD, Messier-Dowty Limited, Cheltenham Road, Gloucester, GL2 9QH, England; Telephone +44 (0) 1452 711732; fax +44 (0) 1452 713821.

(4) You may review copies of this service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on February 27, 2009.
Ali Bahrami,
Manager, Transport Airplane Directorate, Aircraft Certification Service.

[FR Doc. E9-5007 Filed 3-13-09; 8:45 am]

BILLING CODE 4910-13-P